DEPARTMENT OF VETERANS AFFAIRS

Advisory Committee on Disability Compensation, Notice of Meeting, Amended

The Department of Veterans Affairs (VA) gives notice under the Federal Advisory Committee Act, 5 U.S.C. chapter 10, that the Advisory Committee on Disability Compensation (hereinafter the Committee) will hold meeting sessions on Tuesday, September 19, 2023, through Thursday, September 21, 2023, at various locations in Reno, Nevada, and shown below. The meeting sessions will begin and end as follows:

Public participation will commence as follows:

Date | Time | Location | Open session
September 19, 2023 | 9:00 a.m.-3:30 p.m. Pacific Standard Time (PST) | Reno Regional Office, 5460 Reno Corporate Drive, Reno, NV 89511 | No.
September 20, 2023 | 9:00 a.m.-4:30 p.m. PST | Reno Regional Office, 5460 Reno Corporate Drive, Reno, NV 89511 | Yes.
September 21, 2023 | 9:00 a.m.-12:00 p.m. PST | Reno VA Medical Center, 975 Kirman Avenue, Reno, NV 89502 | No.
September 21, 2023 | 1:00 p.m.-4:30 p.m. PST | Reno Vet Center, 5580 Mill Street, Reno, NV 89502 | No.

Sessions are open to the public, except when the Committee is conducting tours of VA facilities. Tours of VA facilities are closed to protect Veterans' privacy and personal information, in accordance with 5 U.S.C. 552b(c)(6).

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the rating schedule, and give advice on the most appropriate means of responding to the needs of Veterans relating to disability compensation.

On Tuesday, September 19, 2023, the Committee will convene a closed session from 9:00 a.m. to 3:30 p.m. PST, as it tours the Reno Regional Office. Tours of VA facilities are closed to protect Veterans' privacy and personal information, in accordance with 5 U.S.C. 552b(c)(6).

On Wednesday, September 20, 2023, the Committee will convene an open session from 9:00 a.m. to 4:30 p.m. PST to hold a Veteran Townhall, receive a briefing from a VA Senior Leader (or designee), and meet with Veteran Service Officers and Congressional/Senatorial staffers.

On Thursday, September 21, 2023, the Committee will convene a closed session from 9:00 a.m. to 4:30 p.m. PST, as it tours the Reno VA Medical Center and the Reno Vet Center. Tours of VA facilities are closed to protect Veterans' privacy and personal information, in accordance with 5 U.S.C. 552b(c)(6).

The public is invited to address the Committee during the public comment period, which will be open for 30-minutes from 3:30 p.m. to 4:00 p.m. PST on Wednesday, September 20, 2023. The public can also submit one-page summaries of their written statements for the Committee's review. Public comments must be received no later than September 13, 2023, for inclusion in the official meeting record. Please send these comments to Jadine Piper of the Veterans Benefits Administration, Compensation Service, at 21C_ACDC.VBACO@va.gov.

Additionally, any member of the public or media planning to attend or seeking additional information, or those who wish to obtain a copy of the agenda should contact Jadine Piper at 21C_ACDC.VBACO@va.gov, and provide their name, professional affiliation, email address and phone number. The call-in number (United States, Chicago) for those who would like to attend the meeting is: 872-701-0185; phone conference ID: 814 961 665#. Members of the public may also access the meeting by pasting the following URL into a web browser: https://bit.ly/ACDC_Public_SeptMeeting.

Dated: September 8, 2023.
Jelessa M. Burney,
Federal Advisory Committee Management Officer.

[FR Doc. 2023-19740 Filed 9-12-23; 8:45 am]

BILLING CODE P